DEPARTMENT OF THE INTERIOR

Fish and Wildlife Service

[FWS-R6-ES-2013-N197; FXES11110600000 FUND 145]

Programmatic Candidate Conservation Agreement With Assurances for Least Chub Receipt of Application for Enhancement of Survival Permit

AGENCY: Fish and Wildlife Service, Interior.

ACTION: Notice of availability; receipt of application.

SUMMARY: We, the U.S. Fish and Wildlife Service (Service), have received an application from the Utah Division of Wildlife Resources (UDWR) for an enhancement of survival permit (permit) under the Endangered Species Act of 1973, as amended (Act). The permit application includes a proposed programmatic Candidate Conservation Agreement with Assurances (CCAA) for the least chub, a fish endemic to the Bonneville Basin of Utah. We have made a preliminary determination that the proposed CCAA and permit issuance are eligible for categorical exclusion under the National Environmental Policy Act of 1969 (NEPA). The basis for our preliminary determination is contained in an Environmental Action Statement. We are accepting comments on the permit application, the proposed CCAA, and the Environmental Action Statement.

DATES: We must receive comments no later than January 9, 2014.

ADDRESSES: Address all written comments to Larry Crist, by U.S. mail at the Utah Field Office, U.S. Fish and Wildlife Service, 2369 West Orton Circle, Suite 50, West Valley City, UT 84119; by facsimile at 801-975-3331; or by email to larry_crist@fws.gov.

FOR FURTHER INFORMATION CONTACT: Larry Crist, Utah Field Office Supervisor, at 801-975-3330. If you use a telecommunications device for the deaf, you may call the Federal Information Relay Service at 800-877-8339.

SUPPLEMENTARY INFORMATION: We, the U.S. Fish and Wildlife Service (Service), have received an application from the Utah Division of Wildlife Resources (UDWR) for an enhancement of survival permit (permit) under the Endangered Species Act of 1973, as amended (Act; 16 U.S.C. 1531 et seq.).

The permit application includes a proposed programmatic Candidate Conservation Agreement with Assurances (CCAA) for the least chub (Iotichthys phlegethontis). We have made a preliminary determination that the proposed CCAA and permit application are eligible for categorical exclusion under the National Environmental Policy Act of 1969 (NEPA; 42 U.S.C. 4321 et seq.). The basis for our preliminary determination is contained in an Environmental Action Statement. We are accepting comments on the permit application, the proposed CCAA, and the Environmental Action Statement.

Candidate Conservation Agreements With Assurances (CCAA)

Under a Candidate Conservation Agreement with Assurances (CCAA), participating landowners voluntarily undertake management activities on their property to enhance, restore, or maintain habitat benefiting species that are proposed for listing or candidates for listing under the Endangered Species Act of 1973, as amended (the Act; 16 U.S.C. 1531 et seq.), or those species that may become candidates. Candidate Conservation Agreements with Assurances, and the subsequent permits that are issued pursuant to section 10(a)(1)(A) of the Act, encourage private and other non-Federal property owners to implement conservation efforts for species by assuring property owners that they will not be subjected to increased land use restrictions as a result of efforts to attract or increase the numbers or distribution of a listed species on their property, if that species becomes listed under the Act in the future. Candidate Conservation Agreement with Assurances permit application requirements and issuance criteria are found in 50 CFR 17.22(d) and 17.32(d).

About This Proposed CCAA

The purpose of this CCAA is for the Service to partner with the UDWR and participating non-Federal property owners (Participants) to implement conservation measures for least chub in a manner that is consistent with our Policy on CCAAs (June 17, 1999; 64 FR 32726) and applicable regulations. The conservation goal of this CCAA is to reduce the threats to least chub and its habitat and increase the number of viable, stable, and secure least chub populations within the species' historic range. The CCAA project area includes all non-Federal lands in the Bonneville Basin of Utah encompassed by the current and historic distribution of least chub, including potentially suitable habitats within the following Utah counties: Beaver, Box Elder, Cache, Davis, Garfield, Iron, Juab, Kane, Millard, Morgan, Piute, Rich, Salt Lake, Sanpete, Sevier, Summit, Tooele, Utah, Weber, Wasatch, and Washington. However, the CCAA is programmatic, and, as such, we cannot identify site-specific project locations at this time.

This proposed CCAA represents a significant milestone in the cooperative conservation efforts for least chub and is consistent with section 2(a)(5) of the Act, which encourages creative partnerships among public, private, and government entities to conserve imperiled species and their habitats. As identified in our CCAA Final Policy (64 FR 32726), and regulations at 50 CFR 17.22, to enter into a CCAA and issue a permit and assurances, we must determine that the conservation measures and expected benefits, when combined with those benefits that would be achieved if it is assumed that similar conservation measures were also implemented on other necessary properties, would preclude or remove the need to list least chub. Consistent with the CCAA policy, meeting the CCAA standard does not depend on the number of acres enrolled, and adoption of the CCAA and enrollment of property owners does not guarantee that listing will be unnecessary. Through a separate finding, we will determine whether this CCAA meets the standard specified in the CCAA policy and regulations.

Non-Federal land makes up a large proportion of the land within the historic range of least chub. While we currently have willing voluntary non-Federal landowners interested in least chub conservation, there is not a federally recognized document providing regulatory assurances for these landowners in the case that least chub becomes federally listed under ESA. The proposed CCAA will provide protection and incentive to these property owners and will likely encourage additional property owners to consider conservation actions for least chub on their properties. The greater the number we have of willing participants in least chub conservation, the greater the likelihood that we are able to achieve our conservation goals for least chub.

Least chub conservation will be enhanced by providing ESA regulatory assurances for participating property owners. Participating property owners will have assurances that, if the species is listed under the ESA in the future, we would not impose additional commitments or land use restrictions as long as the CCAA is properly implemented. Enrollment of property owners under this CCAA will provide an additional pathway to achieve the conservation goal of establishing two or more refuge populations representing each wild population.

Determining Whether To Issue the Permit

When determining whether to issue the permit, we will consider a number of factors and information sources, including the project's administrative record, any public comments received, and the application requirements and issuance criteria for CCAAs contained in 50 CFR 17.22(d) and 17.32(d). We will also evaluate whether the issuance of the permit complies with section 7 of the Act by conducting an intra-Service consultation. The results of this consultation, in combination with the above findings, regulations, and public comments, will determine whether or not to issue the permit. The proposed CCAA also provides Participants with regulatory assurances that, in the event of unforeseen circumstances, we would not require additional conservation measures or the commitment of additional land, water, or resource use restrictions beyond the level obligated in the proposed CCAA, without the consent of the Participant and the UDWR.

We have made a preliminary determination that the proposed CCAA and permit issuance are eligible for categorical exclusion under NEPA. The basis for this determination is the Environmental Action Statement, which is available for public review (see ADDRESSES).

Public Availability of Comments

If you wish to comment on the proposed CCAA and associated documents, you may submit your comments to the Service (see ADDRESSES). Before including your address, phone number, email address, or other personal identifying information in your comment, you should be aware that your entire comment—including your personal identifying information—may be made publicly available at any time. While you can ask us in your comment to withhold your personal identifying information from public review, we cannot guarantee that we will be able to do so.

Next Steps

We will evaluate this permit application, associated documents, and comments submitted thereon to determine whether the permit application meets the requirements of section 10(a) of the Act and NEPA (40 CFR 1506.6). When we determine that the requirements are met, we will sign the proposed Agreement and issue a permit under section 10(a)(1)(A) of the Act to the Applicants for take of the covered species in accordance with the terms of the Agreement. We will not make our final decision until after the end of the 30-day comment period; we will fully consider all comments received during the comment period.

Authority: The Service provides this notice under section 10(c) of the Act and implementing regulations for NEPA (40 CFR 1506.6).

Dated: November 18, 2013.
Larry Crist,
Field Supervisor, Salt Lake City, Utah.

[FR Doc. 2013-29463 Filed 12-9-13; 8:45 am]

BILLING CODE 4310-55-P